DEPARTMENT OF LABOR

Employment and Training Administration

[TA-W-59,446]

Business Confidential; Maremont Company; Loudon, TN; Notice of Termination of Investigation

Pursuant to section 221 of the Trade Act of 1974, as amended, an investigation was initiated on May 23, 2006, in response to a worker petition filed by the Technical Assistance Director of the Tennessee AFL-CIO on behalf of workers at Maremont Company, Loudon, Tennessee.

The petitioner has requested that the petition be withdrawn. Consequently, the investigation has been terminated.

Signed in Washington, DC, this 1st day of August, 2006.
Richard Church,
Certifying Officer, Division of Trade Adjustment Assistance.

[FR Doc. E6-14152 Filed 8-24-06; 8:45 am]

BILLING CODE 4510-30-P